DEPARTMENT OF TRANSPORTATION

Federal Aviation Administration

14 CFR Part 39

[Docket No. FAA-2014-0138; Directorate Identifier 2013-NM-020-AD; Amendment 39-18086; AD 2015-02-19]

RIN 2120-AA64

Airworthiness Directives; Airbus Airplanes

AGENCY: Federal Aviation Administration (FAA), Department of Transportation (DOT).

ACTION: Final rule.

SUMMARY: We are superseding Airworthiness Directive (AD) 95-24-04 for all Airbus Model A300 series airplanes; Model A300 B4-600, B4-600R, and F4-600R series airplanes; and Model A300 C4-605R Variant F airplanes. AD 95-24-04 required inspections to detect cracks at the aft spar web of the wings, and repair if necessary. This new AD reduces certain compliance times, and expands the applicability. This AD was prompted by a determination that the inspection threshold and interval must be reduced to allow timely detection of cracks and accomplishment of applicable repairs, because of cracking in the rear spar web of the wings between certain ribs due to fatigue-related high shear stress. We are issuing this AD to detect and correct fatigue-related cracking, which could result in reduced structural integrity of the wing.

DATES: This AD becomes effective March 11, 2015.

The Director of the Federal Register approved the incorporation by reference of a certain publication listed in this AD as of March 11, 2015.

The Director of the Federal Register approved the incorporation by reference of certain other publications listed in this AD as of December 27, 1995 (60 FR 58213, November 27, 1995).

ADDRESSES: You may examine the AD docket on the Internet at http://www.regulations.gov/#!docketDetail;D=FAA-2014-0138; or in person at the Docket Management Facility, U.S. Department of Transportation, Docket Operations, M-30, West Building Ground Floor, Room W12-140, 1200 New Jersey Avenue SE., Washington, DC.

For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to supersede AD 95-24-04, Amendment 39-9436 (60 FR 58213, November 27, 1995). AD 95-24-04 applied to all Airbus Model A300 series airplanes; Model A300 B4-600, B4-600R, and F4-600R series airplanes; and Model A300 C4-605R Variant F airplanes (collectively called Model A300-600 series airplanes). The NPRM published in the Federal Register on March 12, 2014 (79 FR 13944).

The European Aviation Safety Agency (EASA), which is the Technical Agent for the Member States of the European Union, has issued EASA Airworthiness Directive 2013-0013R1, dated February 20, 2013 (referred to after this as the Mandatory Continuing Airworthiness Information, or “the MCAI”), to correct an unsafe condition on all Model A300 series airplanes; Model A300 B4-600, B4-600R, and F4-600R series airplanes; and Model A300 C4-605R Variant F airplanes. The MCAI states:

Wing fatigue tests carried out by Airbus revealed cracks on the vertical web of the rear spar between Ribs 1 and 2. Similar cracks in the same area were reportedly found by A300 aeroplane operators. In all cases, the cracks ran from the tip of the build slot to the nearest adjacent bolt hole.

This condition, if not detected and corrected, could affect the structural integrity of the aeroplane.

To address this unsafe condition, DGAC [Direction Générale de l'Aviation Civile] France issued * * * [an AD] to require an eddy current inspection of the aft face of the wing rear spar in the area adjacent to the build slot on Left Hand (LH) and Right Hand (RH) wings.

Since that [French] AD was issued, a fleet survey and updated fatigue and damage tolerance analysis were performed in order to substantiate the second A300-600 Extended Service Goal (ESG2) exercise. The results of the survey and analysis showed that the inspection threshold and interval must be reduced to allow timely detection of cracks and accomplishment of an applicable corrective action.

Prompted by these findings, Airbus issued Airbus Service Bulletin (SB) A300-57-6059 Revision 04.

For the reasons described above, this [EASA] AD retains the requirements of DGAC France AD 1997-375-239(B)R3, which is superseded, but redefines the thresholds and intervals. This [EASA] AD also expands the applicability to aeroplanes on which Airbus modification (mod) 12102 has been embodied in production and to aeroplanes on which Airbus SB A300-57-6063 (Airbus mod 11130) has been embodied in service.

* * * * *

You may examine the MCAI in the AD docket on the Internet at http://www.regulations.gov/#!documentDetail;D=FAA-2014-0138-0003.

Comments

We gave the public the opportunity to participate in developing this AD. The following presents the comments received on the NPRM (79 FR 13944, March 12, 2014) and the FAA's response to each comment.

Request To Clarify Applicability

UPS requested confirmation that Model A300 F4-622R airplanes, which have Airbus Modification 12102 embodied, do not require inspection per the NPRM (79 FR 13944, March 12, 2014).

We agree to clarify the applicability. Model A300 F4-622R airplanes are not included in the applicability of this AD. No change is necessary to this AD in this regard.

Requests To Clarify Inspection Threshold

UPS and FedEx requested clarification of the inspection threshold for post-modification 11130 (Airbus Service Bulletin A300-57-6063) airplanes. The commenters asked if the inspection threshold is from time of modification embodiment or if it is based on total flight cycles.

We agree that clarification is necessary. The inspection threshold for post-modification 11130 (Airbus Service Bulletin A300-57-6063) airplanes is determined from point of embodiment of Modification 11130, and is not based on total flight cycles. We have added this clarification to paragraph (l)(1) of this AD.

Request To Revise Certain Compliance Times

UPS requested that we revise the compliance times in paragraph (l) of the NPRM (79 FR 13944, March 12, 2014) to use the same methodology and consistency used in the compliance time intervals specified in paragraphs (g) through (j) of the proposed AD. UPS stated that it disagrees with using the average flight time compliance methodology and it believes that, in this case, thresholds and repetitive intervals should be based on wing loading differences between passenger-configuration and freighter-configuration airplanes.

We disagree with the commenter's request to revise the specified compliance times. The commenter did not provide data to substantiate different airplane utilization and the effect on the identified unsafe condition. The specific values suggested by the commenter are not supported by the fatigue and damage tolerance analysis accomplished by Airbus. The average flight time methodology was supported by EASA. The FAA has confidence that the unsafe condition will be addressed in an appropriate time frame. Under the provisions of paragraph (p)(1) of this AD, we will consider requests for approval of an alternative method of compliance (AMOC) if sufficient data are submitted to substantiate different airplane utilization. We have not changed this AD in this regard.

Request To Remove Repair Approval Requirement

FedEx acknowledged that repair approvals must specifically “refer to this AD,” but made no specific request.

UPS requested that we remove the statement “For a repair method to be approved, the repair approval must specifically refer to this AD” from paragraphs (k)(2) and (n) of the NPRM (79 FR 13944, March 12, 2014). UPS stated that the NPRM indicates that this requirement is due to the potential for doing inadequate repairs. UPS asserted that no examples are included in the NPRM to demonstrate where inadequate repairs were made, and that the proposed wording, being specific to repairs, eliminates the interpretation that Airbus messages or other approved EASA documents are acceptable for approving minor deviations (corrective actions) needed during accomplishment of a mandated Airbus service bulletin. UPS also stated that this repair requirement will result in an increase in AMOC requests to the FAA, and will likely result in delays to other FAA services and activities.

We concur with UPS's request to remove from this AD the requirement that repair approvals must specifically refer to this AD.

Since late 2006, we have included a standard paragraph titled “Airworthy Product” in all MCAI ADs in which the FAA develops an AD based on a foreign authority's AD. The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In the NPRM (79 FR 13944, March 12, 2014), we proposed to prevent the use of repairs that were not specifically developed to correct the unsafe condition, by requiring that the repair approval provided by the State of Design Authority or its delegated agent specifically refer to this FAA AD. This change was intended to clarify the method of compliance and to provide operators with better visibility of repairs that are specifically developed and approved to correct the unsafe condition. In addition, we proposed to change the phrase “its delegated agent” to include a design approval holder (DAH) with State of Design Authority design organization approval (DOA), as applicable, to refer to a DAH authorized to approve required repairs for the proposed AD.

UPS specifically stated the following in its comments to the NPRM (79 FR 13944, March 12, 2014): “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed that paragraph and retitled it “Contacting the Manufacturer.” This paragraph now clarifies that for any requirement in this AD to obtain corrective actions from a manufacturer, the actions must be accomplished using a method approved by the FAA, EASA, or Airbus's EASA DOA.

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility afforded previously by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

Commenters to an NPRM having Directorate Identifier 2012-NM-101-AD (78 FR 78285, December 26, 2013) pointed out that in many cases the foreign manufacturer's service bulletin and the foreign authority's MCAI may have been issued some time before the FAA AD. Therefore, the DOA may have provided U.S. operators with an approved repair, developed with full awareness of the unsafe condition, before the FAA AD is issued. Under these circumstances, to comply with the FAA AD, the operator would be required to go back to the manufacturer's DOA and obtain a new approval document, adding time and expense to the compliance process with no safety benefit.

Based on these comments, we removed the requirement that the DAH-provided repair specifically refer to this AD from paragraphs (k)(2) and (n) of this AD. Before adopting such a requirement, the FAA will coordinate with affected DAHs and verify they are prepared to implement means to ensure that their repair approvals consider the unsafe condition addressed in the AD. Any such requirements will be adopted through the normal AD rulemaking process, including notice-and-comment procedures, when appropriate.

We have also decided not to include a generic reference to either the “delegated agent” or the “DAH with State of Design Authority design organization approval,” but instead we will provide the specific delegation approval granted by the State of Design Authority for the DAH.

Conclusion

We reviewed the available data, including the comments received, and determined that air safety and the public interest require adopting this AD with the changes described previously and minor editorial changes. We have determined that these changes:

• Are consistent with the intent that was proposed in the NPRM (79 FR 13944, March 12, 2014) for correcting the unsafe condition; and

• Do not add any additional burden upon the public than was already proposed in the NPRM (79 FR 13944, March 12, 2014).

Related Service Information

We reviewed Airbus Service Bulletin A300-57-6059, Revision 04, dated February 22, 2011. The service information describes procedures for repetitive inspections and repair of the wing rear spar. You can find this information at http://www.regulations.gov by searching for and locating Docket No. FAA-2014-0138.

Costs of Compliance

We estimate that this AD affects 71 airplanes of U.S. registry.

The actions that were required by AD 95-24-04, Amendment 39-9436 (60 FR 58213, November 27, 1995), and are retained in this AD take about 3 work-hours per inspection cycle, at an average labor rate of $85 per work-hour. Based on these figures, the estimated cost of the actions that were required by AD 95-24-04 is $255 per product for each inspection cycle.

We also estimate that it will take about 3 work-hours per product to comply with the new basic requirements of this AD. The average labor rate is $85 per work-hour. Based on these figures, we estimate the cost of this AD on U.S. operators to be $18,105 per inspection cycle, or $255 per product for each inspection cycle.

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0138; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 95-24-04, Amendment 39-9436 (60 FR 58213, November 27, 1995), and adding the following new AD:

2015-02-19 Airbus: Amendment 39-18086. Docket No. FAA-2014-0138; Directorate Identifier 2013-NM-020-AD.

(a) Effective Date

This AD becomes effective March 11, 2015.

(b) Affected ADs

This AD replaces AD 95-24-04, Amendment 39-9436 (60 FR 58213, November 27, 1995).

(c) Applicability

This AD applies to the Airbus airplanes specified in paragraphs (c)(1) through (c)(5) of this AD, certificated in any category, all manufacturer serial numbers.

(1) Model A300 B2-1A, B2-1C, B2K-3C, B2-203, B4-2C, B4-103, and B4-203 airplanes.

(2) Model A300 B4-601, B4-603, B4-620, and B4-622 airplanes.

(3) Model A300 B4-605R and B4-622R airplanes.

(4) Model A300 F4-605R airplanes.

(5) Model A300 C4-605R Variant F airplanes.

(d) Subject

Air Transport Association (ATA) of America Code 57, Wings.

(e) Reason

This AD was prompted by a determination that the inspection compliance time and interval must be reduced to allow timely detection of cracks and accomplishment of applicable repairs if necessary because of cracking in the rear spar web of the wings between certain ribs due to fatigue-related high shear stress. We are issuing this AD to detect and correct fatigue-related cracking, which could result in reduced structural integrity of the wing.

(f) Compliance

Comply with this AD within the compliance times specified, unless already done.

(g) Retained Inspection of Model A300 B2 Series Airplanes

This paragraph restates the requirements of paragraph (a) of AD 95-24-04, Amendment 39-9436 (60 FR 58213, November 27, 1995), with no changes. For Model A300 B2 series airplanes: Prior to the accumulation of 18,000 total flight cycles, or within 1,400 flight cycles after December 27, 1995 (the effective date of AD 95-24-04), whichever occurs later, perform a high frequency eddy current (HFEC) inspection to detect cracks at the aft spar web of the wings, in accordance with Airbus Service Bulletin A300-57-0213, dated August 12, 1994. Repeat the inspection thereafter at intervals not to exceed 5,000 flight cycles.

(h) Retained Inspection of Model A300 B4-103 and B4-2C Airplanes

This paragraph restates the requirements of paragraph (b) of AD 95-24-04, Amendment 39-9436 (60 FR 58213, November 27, 1995), with no changes. For Model A300 B4-103 and B4-2C airplanes: Prior to the accumulation of 19,000 total flight cycles, or within 1,400 flight cycles after December 27, 1995 (the effective date of AD 95-24-04), whichever occurs later, perform an HFEC inspection to detect cracks at the aft spar web of the wings, in accordance with Airbus Service Bulletin A300-57-0213, dated August 12, 1994. Repeat the inspection thereafter at intervals not to exceed 6,000 flight cycles.

(i) Retained Inspection of Model A300 B4-200 Airplanes

This paragraph restates the requirements of paragraph (c) of AD 95-24-04, Amendment 39-9436 (60 FR 58213, November 27, 1995), with no changes. For Model A300 B4-200 airplanes: Prior to the accumulation of 17,000 total flight cycles, or within 1,400 flight cycles after December 27, 1995 (the effective date of AD 95-24-04), whichever occurs later, perform an HFEC inspection to detect cracks at the aft spar web of the wings, in accordance with Airbus Service Bulletin A300-57-0213, dated August 12, 1994. Repeat the inspection thereafter at intervals not to exceed 5,000 flight cycles.

(j) Retained Inspection of Model A300 B4-601, B4-603, B4-620, B4-622, B4-605R, B4-622R, and F4-605R Airplanes

This paragraph restates the requirements of paragraph (d) of AD 95-24-04, Amendment 39-9436 (60 FR 58213, November 27, 1995), with no changes. For Model A300 B4-601, B4-603, B4-620, B4-622, B4-605R, B4-622R, and F4-605R airplanes: Prior to the accumulation of 21,600 flight cycles, perform an HFEC inspection to detect cracks at the aft spar web of the wings, in accordance with Airbus Service Bulletin A300-57-6059, dated August 12, 1994. Repeat the inspection thereafter at intervals not to exceed 5,700 flight cycles. Accomplishment of the initial inspection required by paragraph (l) of this AD terminates the requirements of this paragraph.

(k) Retained Repairs

This paragraph restates the requirements of paragraph (e) of AD 95-24-04, Amendment 39-9436 (60 FR 58213, November 27, 1995), with new actions and with specific delegation approval language in paragraph (k)(2) of this AD.

(1) Before the effective date of this AD, if any crack is detected during any inspection required by paragraphs (g) through (j) of this AD: Prior to further flight, repair the crack, in accordance with Airbus Service Bulletin A300-57-0213, dated August 12, 1994; or Airbus Service Bulletin A300-57-6059, dated August 12, 1994; as applicable; or in accordance with a method approved by the Manager, International Branch, ANM-116, Transport Airplane Directorate, FAA.

(2) As of the effective date of this AD, if any crack is detected during any inspection required by paragraphs (g) through (j) of this AD: Before further flight, repair the crack, in accordance with Airbus Service Bulletin A300-57-0213, dated August 12, 1994; or Airbus Service Bulletin A300-57-6059, Revision 04, dated February 22, 2011; as applicable; except if Airbus Service Bulletin A300-57-0213, dated August 12, 1994; or Airbus Service Bulletin A300-57-6059, Revision 04, dated February 22, 2011; specifies to contact Airbus for an approved repair, before further flight, repair the crack using a method approved by either the Manager, International Branch, ANM-116, Transport Airplane Directorate, FAA; the European Aviation Safety Agency (EASA); or Airbus's EASA design organization approval (DOA).

(l) New Repetitive Inspections

For airplanes identified in paragraphs (c)(2) through (c)(5) of this AD: At the later of the times specified in paragraphs (l)(1) and (l)(2) of this AD, perform an HFEC inspection to detect cracks of the aft face of the wing rear spar web in the area adjacent to the build slot, in accordance with the Accomplishment Instructions of Airbus Service Bulletin A300-57-6059, Revision 04, dated February 22, 2011. Repeat the inspection thereafter at the applicable time specified in Airbus Service Bulletin A300-57-6059, Revision 04, dated February 22, 2011, except as specified in paragraph (m) of this AD. Accomplishment of the initial inspection required by this paragraph terminates the requirements of paragraph (j) of this AD.

(1) At the earlier of the applicable times specified in the “Threshold Inspection” column in table 1 through table 4 of paragraph 1.E., “Compliance,” of Airbus Service Bulletin A300-57-6059, Revision 04, dated February 22, 2011. Where Airbus Service Bulletin A300-57-6059, Revision 04, dated February 22, 2011, specifies “(FH)” and “(FC)” in the “Threshold Inspection” columns, this AD specifies “total flight hours” and “total flight cycles.” The inspection threshold for airplanes on which Airbus Modification 11130 (Airbus Service Bulletin A300-57-6063) has been done is determined from the point of embodiment of Airbus Modification 11130, and is not based on total flight cycles.

(2) At the earlier of the applicable times specified in the “Grace Period” column in table 1 through table 4 of paragraph 1.E., “Compliance,” of Airbus Service Bulletin A300-57-6059, Revision 04, dated February 22, 2011. Where Airbus Service Bulletin A300-57-6059, Revision 04, dated February 22, 2011, specifies “(FH)” and “(FC)” in the “Grace Period” columns, this AD specifies “flight hours” and “flight cycles.” Where Airbus Service Bulletin A300-57-6059, Revision 04, dated February 22, 2011, specifies a grace period, this AD requires compliance within the specified time after the effective date of this AD.

(m) Compliance Time Exceptions

The repetitive inspection required by paragraph (l) of this AD must be accomplished at the earlier of the applicable times specified in the “Repeat Interval” column of table 1 through table 4 of Airbus Service Bulletin A300-57-6059, Revision 04, dated February 22, 2011. Where Airbus Service Bulletin A300-57-6059, Revision 04, dated February 22, 2011, specifies “(FC)” and “(FH)” in the “Repeat Interval” columns, this AD specifies “flight hours” and “flight cycles.”

(n) New Repair

If any crack is detected during any inspection required by paragraph (l) of this AD: Before further flight, repair the crack, in accordance with the Accomplishment Instructions of Airbus Service Bulletin A300-57-6059, Revision 04, dated February 22, 2011. Where Airbus Service Bulletin A300-57-6059, Revision 04, dated February 22, 2011, specifies to contact Airbus for an approved repair: Before further flight, repair the crack using a method approved by either the Manager, International Branch, ANM-116, Transport Airplane Directorate, FAA; the EASA; or Airbus's EASA DOA. Repair of any cracking, as required by this paragraph, does not terminate the repetitive inspections required by paragraph (l) of this AD.

(o) Credit for Previous Actions

(1) This paragraph provides credit for the actions required by paragraphs (j) and (k) of this AD, if those actions were performed before the effective date of this AD using Airbus Service Bulletin A300-57-6059, dated August 12, 1994.

(2) This paragraph provides credit for the actions required by paragraphs (j), (k), (l), and (n) of this AD, if those actions were performed before the effective date of this AD using Airbus Service Bulletin A300-57-6059, Revision 03, dated October 25, 1999, which is not incorporated by reference in this AD.

(p) Other FAA AD Provisions

The following provisions also apply to this AD:

(1) Alternative Methods of Compliance (AMOCs): The Manager, International Branch, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(q) Related Information

(1) Refer to Mandatory Continuing Airworthiness Information (MCAI) EASA Airworthiness Directive 2013-0013R1, dated February 20, 2013, for related information. You may examine the MCAI in the AD docket on the Internet at http://www.regulations.gov/#!documentDetail;D=FAA-2014-0138-0003.

(2) Service information identified in this AD that is not incorporated by reference in this AD is available at the addresses specified in paragraphs (r)(5) and (r)(6) of this AD.

(r) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on effective March 11, 2015.

(i) Airbus Service Bulletin A300-57-6059, Revision 04, dated February 22, 2011.

(ii) Reserved.

(4) The following service information was approved for IBR on December 27, 1995 (60 FR 58213, November 27, 1995).

(i) Airbus Service Bulletin A300-57-0213, dated August 12, 1994.

(ii) Airbus Service Bulletin A300-57-6059, dated August 12, 1994.

(5) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on January 15, 2015.
John P. Piccola, Jr.,
Acting Manager, Transport Airplane Directorate, Aircraft Certification Service.

[FR Doc. 2015-01188 Filed 2-3-15; 8:45 am]

BILLING CODE 4910-13-P